DEPARTMENT OF ENERGY

Federal Energy Regulatory Commission

Notice of Draft Application and Preliminary Draft Environmental Assessment (PDEA) and Request for Preliminary Terms and Conditions

May 2, 2002.

Take notice that the following hydroelectric application has been filed with the Commission and is available for public inspection:

a. Type of Application: New Major License.

b. Project No.: 487.

c. Applicant: PPL Holtwood, LLC.

d. Name of Project: Lake Wallenpaupack Hydroelectric Project.

e. Location: On Wallenpaupack Creek, in Wayne and Pike Counties, Pennsylvania.

f. Applicant Contact: Gary Petrewski, PPL Generation, LLC, Two North Ninth Street, Allentown, PA 18101-1179, (610) 774-5996, Email: gpetrewski@pplweb.com.

g. FERC Contact: Patrick K. Murphy (202) 219-2659, Email: Patrick.Murphy@ferc.gov.

h. PPL mailed a copy of the Preliminary Draft Environmental Assessment and draft application to interested parties on April 29, 2002. The Commission received a copy of the PDEA on April 30, 2002. Copies of the document are available from PPL at the above address.

i. With this notice we are soliciting preliminary terms, conditions, recommendations, prescriptions, and comments on the PDEA and draft license application. All comments on the PDEA and draft license application should be sent to the address above in item (f) with one copy filed with the Commission at the following address: Federal Energy Regulatory Commission, Magalie R. Salas, Secretary, 888 First Street, NE, Room 1A, Washington, DC 20426. All comments must include the project name and number, and bear the heading “Preliminary Comments”, “Preliminary Recommendations”, “Preliminary Terms and Conditions”, or “Preliminary Prescriptions”. Any party interested in commenting must do so before July 1, 2002.

j. With this notice, we are initiating consultation with the State Historic Preservation Officer (SHPO), as required by Section 106, National Historic Preservation Act, and the regulations of the Advisory Council on Historic Preservation, 36 CFR 800.4.

Linwood A. Watson, Jr.,
Deputy Secretary.

[FR Doc. 02-11404 Filed 5-7-02; 8:45 am]

BILLING CODE 6717-01-P